DEPARTMENT OF ENERGY

Federal Energy Regulatory Commission

Combined Notice of Filings #1

Take notice that the Commission received the following exempt wholesale generator filings:

Docket Numbers: EG12-46-000.

Applicants: Silver State Solar Power North, LLC.

Description: Notice of Self-Certification as an EWG of Silver State Solar Power North, LLC.

Filed Date: 3/22/12.

Accession Number: 20120322-5064.

Comments Due: 5 p.m. ET 4/12/12.

Take notice that the Commission received the following electric rate filings:

Docket Numbers: ER10-2984-005.

Applicants: Merrill Lynch Commodities, Inc.

Description: MBR Compliance Filing to be effective 3/22/2012.

Filed Date: 3/22/12.

Accession Number: 20120322-5062.

Comments Due: 5 p.m. ET 4/12/12.

Docket Numbers: ER12-684-001.

Applicants: ITC Midwest LLC.

Description: Filing of a Deficiency Response to be effective 2/22/2012.

Filed Date: 3/22/12.

Accession Number: 20120322-5078.

Comments Due: 5 p.m. ET 4/12/01.

Docket Numbers: ER12-1317-000.

Applicants: Entergy Arkansas, Inc., Entergy Services, Inc.

Description: PLUM DTOAs to be effective 3/22/2012.

Filed Date: 3/22/12.

Accession Number: 20120322-5067.

Comments Due: 5 p.m. ET 4/12/12.

Docket Numbers: ER12-1318-000.

Applicants: First Point Power, LLC.

Description: FPP MBR Filing to be effective 3/25/2012.

Filed Date: 3/22/12.

Accession Number: 20120322-5069.

Comments Due: 5 p.m. ET 4/12/12.

Docket Numbers: ER12-1319-000.

Applicants: Arizona Public Service Company.

Description: Cancellation of Arizona Public Service Company Service Agreement No. 313 to be effective 5/22/2012.

Filed Date: 3/22/12.

Accession Number: 20120322-5090.

Comments Due: 5 p.m. ET 4/12/12.

Docket Numbers: ER12-1320-000.

Applicants: Desert View Power, Inc.

Description: Market-Based Rate Application and Request for Waivers and Blanket Authorization to be effective 5/1/2012.

Filed Date: 3/22/12.

Accession Number: 20120322-5104.

Comments Due: 5 p.m. ET 4/12/12.

Docket Numbers: ER12-1321-000.

Applicants: Cleco Power LLC.

Description: Baseline filings of SA90, 113, 115 & 119 to be effective 3/22/2012.

Filed Date: 3/22/12.

Accession Number: 20120322-5108.

Comments Due: 5 p.m. ET 4/12/12.

Docket Numbers: ER12-1322-000.

Applicants: New York Independent System Operator, Inc.

Description: Request for Limited Tariff Waiver and Request for Expedited Action of the New York Independent System Operator, Inc.

Filed Date: 3/22/12.

Accession Number: 20120322-5124.

Comments Due: 5 p.m. ET 3/29/12.

Docket Numbers: ER12-1323-000.

Applicants: Wabash Valley Power Association, Inc.

Description: WVPA Market-Based Tariff Revised to be effective 5/21/2012.

Filed Date: 3/23/12.

Accession Number: 20120323-5036.

Comments Due: 5 p.m. ET 4/13/12.

Docket Numbers: ER12-1324-000.

Applicants: Wabash Valley Energy Marketing, Inc.

Description: Wabash Valley Energy Marketing Market-Based Tariff Revised to be effective 5/21/2012.

Filed Date: 3/23/12.

Accession Number: 20120323-5041.

Comments Due: 5 p.m. ET 4/13/12.

Docket Numbers: ER12-1325-000.

Applicants: ISO New England Inc., New England Power Pool Participants Committee.

Description: ISO New England Inc. submits tariff filing per 35.13(a)(2)(iii): Revisions to FCM Rules Related to Net Regional Clearing Price to be effective 6/1/2012.

Filed Date: 3/23/12.

Accession Number: 20120323-5076.

Comments Due: 5 p.m. ET 4/13/12.

Docket Numbers: ER12-1326-000.

Applicants: Northern States Power Company, a Minnesota Corporation.

Description: Northern States Power Company, a Minnesota corporation submits tariff filing per 35.13(a)(2)(iii): 2012-3-23_GRE-Multi-Pty-JPZ Agrmt_304-NSP to be effective 8/18/2010.

Filed Date: 3/23/12.

Accession Number: 20120323-5077.

Comments Due: 5 p.m. ET 4/13/12.

Take notice that the Commission received the following qualifying facility filings:

Docket Numbers: QF12-302-000.

Applicants: Pennsylvania State Employee Credit Union.

Description: Pennsylvania State Employee Credit Union submits FERC Form 556 Notice of Certification of Qualifying Facility (QF) Status for a Small Power Production Facility.

Filed Date: 3/20/12.

Accession Number: 20120320-5170.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2012.
Nathaniel J. Davis, Sr.,
Deputy Secretary.

[FR Doc. 2012-7887 Filed 4-2-12; 8:45 am]

BILLING CODE 6717-01-P